DEPARTMENT OF ENERGY

Federal Energy Regulatory Commission

[Docket No. CP17-6-000]

Texas Eastern Transmission, L.P.; Notice of Schedule for Environmental Review of the Idle Line 1 Abandonment Project

On October 28, 2016, Texas Eastern Transmission, L.P. (Texas Eastern) filed an application in Docket No. CP17-6-000 requesting a Certificate of Public Convenience and Necessity pursuant to Section 7(b) of the Natural Gas Act to abandon certain natural gas pipeline facilities. The proposed project is known as the Idle Line 1 Abandonment Project (Project), and would involve abandonment of approximately 165 miles of pipeline and appurtenant facilities located in Ohio, West Virginia, and Pennsylvania that have been previously removed from service.

On November 9, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA April 21, 2017

90-day Federal Authorization Decision Deadline July 20, 2017

If a schedule change becomes necessary, additional notice will be provided so that the relevant agencies are kept informed of the Project's progress.

Project Description

The facilities to be abandoned under Section 7 (b) include: (1) Approximately 165 miles of existing 24-inch-diameter Line 1 pipeline in the states of Ohio, West Virginia, and Pennsylvania; (2) approximately 0.5 mile of 8-inch-diameter Line 10-M pipeline in Marshall County, West Virginia; (3) 0.07 mile of Line 10-L pipeline in Greene County, Pennsylvania; (4) removal of two meter and regulation stations, in Marshall County and Greene County; and (5) removal of aboveground facilities associated with these pipeline segments and laterals including launcher/receiver barrels, mainline valves, and other appurtenant facilities. Most abandonment would be in place; however, Texas Eastern proposes to abandon aboveground facilities associated with the pipeline segments by removal, as indicated above. Pipe segments would also be removed in certain locations; primarily under waterbodies where the pipeline has become exposed.

Background

On December 28, 2016, the Commission issued a Notice of Intent to Prepare an Environmental Assessment for the Proposed Idle Line 1 Abandonment Project and Request for Comments on Environmental Issues (NOI). The NOI was sent to affected landowners; federal, state, and local government agencies; elected officials; environmental and public interest groups; Native American tribes; and other interested parties.

In response to the NOI, the Commission received comments from the U.S. Army Corps of Engineers, the U.S. Fish and Wildlife Service, the Ohio Department of Natural Resources, the Miami Tribe of Oklahoma, and three landowners. The primary issues raised by the commentors are impacts on waterbodies during pipeline removal; the potential effect on Indiana bats, freshwater mussels, and other listed species; and pipeline removal activities on State of Ohio parkland. The three landowners requested further information about how the work would affect their properties; however, no project-related abandonment activities are being proposed for these properties. The U.S. Army Corps of Engineers is a cooperating agency in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs- filing/esubscription.asp. Additional information about the Project is available from the Commission's Office of External Affairs at (866) 208-FERC or on the FERC Web site (www.ferc.gov). Using the “eLibrary” link, select “General Search” from the eLibrary menu, enter the selected date range and “Docket Number” excluding the last three digits (i.e., CP17-6), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 7, 2017.
Kimberly D. Bose,
Secretary.

[FR Doc. 2017-04879 Filed 3-10-17; 8:45 am]

BILLING CODE 6717-01-P